DEPARTMENT OF EDUCATION

34 CFR Parts 3 and 19

Official Seal; National Security Information Procedures

AGENCY: Department of Education.

ACTION: Final regulations.

SUMMARY: The Secretary amends the regulations governing the use of the Official Seal of the Department of Education (ED) and removes the regulations governing National Security Information Procedures. These final regulations amend obsolete references in the provisions governing use of the Official Seal and remove unnecessary requirements relating to National Security Information Procedures. The Secretary takes this action to update existing regulations and to eliminate unnecessary regulations.

DATES: These regulations are effective September 22, 2000.

FOR FURTHER INFORMATION CONTACT: Kenneth C. Depew, Division of Regulatory Services, Office of the General Counsel, Department of Education, 400 Maryland Avenue, SW., Room 6E109, FB-6, Washington, DC 20202-2241. Telephone: (202) 401-8300. If you use a telecommunications device for the deaf (TDD), you may call the Federal Information Relay Service (FIRS) at 1-800-877-8339.

Individuals with disabilities may obtain this document in an alternative format (e.g., Braille, large print, audiotape, or computer diskette) on request to the contact person listed in the preceding paragraph.

SUPPLEMENTARY INFORMATION: These regulations amend the regulations in 34 CFR part 3 (Official Seal) to reflect the current organizational structure of the Department.

The regulations in 34 CFR part 19 (National Security Information Procedures) are removed because the Department's security classification regulation does not affect members of the public. Therefore, as confirmed by the Information Security Oversight Office, National Archives and Records Administration, publication of these regulations is unnecessary.

Waiver of Proposed Rulemaking

Under the Administrative Procedure Act (5 U.S.C. 553) we generally offer interested parties the opportunity to comment on proposed regulations. However, these amendments incorporate changes in internal agency organization and management and do not establish new substantive policy. Therefore, under 5 U.S.C. 553(b)(A), proposed rulemaking does not apply to the extent these regulations concern agency organization and procedure, and under 5 U.S.C. 553(b)(B), the Secretary has determined that proposed rulemaking is unnecessary.

Regulatory Flexibility Act Certification

The Secretary certifies that these regulations would not have a significant economic impact on a substantial number of small entities. The regulations reflect internal departmental changes and would not affect any small entities under the Regulatory Flexibility Act.

Paperwork Reduction Act of 1995

These regulations do not contain any information collection requirements.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.access.gpo.gov/nara/index.html

(Catalog of Federal Domestic Assistance Numbers do not apply.)

List of Subjects

34 CFR Part 3

Seals and insignia.

34 CFR Part 19

Classified information.

Dated: September 19, 2000.
Lorraine Lewis,
Inspector General.
Willie Gilmore,
Director, Office of Management.

For the reasons discussed in the preamble, the Secretary amends title 34 of the Code of Federal Regulations by amending part 3 and removing part 19 as follows:

PART 3—OFFICIAL SEAL

1. The authority citation for part 3 continues to read as follows:

Authority: 20 U.S.C. 3472 and 3485, unless otherwise noted.

§ 3.4 [Amended]

2. Section 3.4 is amended by:

A. Removing “Assistant Secretary for Management and Budget/Chief Financial Officer” and adding, in its place, “Director of Public Affairs” in paragraph (b).

B. Removing “Replicas” and adding, in its place, “In regard to internal use, replicas” in paragraph (c) introductory text.

C. Adding “electronic media” before “motion” in paragraph (c)(4).

D. Adding “internal” after “other”; and removing “of the Office of Administrative Resources Management;”, and adding, in its place, “for Management.” in paragraph (c)(7).

E. Removing “Reproductions” and adding, in its place, “In regard to internal use, reproductions” in paragraph (d) introductory text.

F. Adding “electronic media” before “motion” in paragraph (d)(7).

G. Adding “internal” after “other”; and removing “of the Office of Administrative Resources”, and adding, in its place, “for” in paragraph (d)(8).

H. Adding “internally” after “only” in paragraph (e) introductory text.

I. Removing “Assistant Secretary for Human Resources and Administration” and adding, in its place, “the Director for Management” in paragraph (e)(3).

PART 19 [REMOVED]

3. Part 19 is removed.

[FR Doc. 00-24390 Filed 9-21-00; 8:45 am]

BILLING CODE 4000-01-P